NUCLEAR REGULATORY COMMISSION

[Docket Nos. 50-498 and 50-499]

STP Nuclear Operating Company; Notice of Withdrawal of Application for Amendments to Facility Operating Licenses

The U.S. Nuclear Regulatory Commission (the Commission) has granted the request of STP Nuclear Operating Company (the licensee) to withdraw its June 7, 2006, application for proposed amendments to Facility Operating License Nos. NPF-76 and NPF-80, respectively, for the South Texas Project, Units 1 and 2, located in Matagorda County.

The proposed amendments would have revised the facility's Spent Fuel Pool and In-Containment Storage Area Criticality Analysis.

The Commission had previously issued a Notice of Consideration of Issuance of Amendments published in the Federal Register on September 12, 2006 (71 FR 53721). However, by letter dated November 28, 2007, the licensee withdrew the proposed request for amendments.

For further details with respect to this action, see the application for amendments dated June 7, 2006, and the licensee's letter dated November 28, 2007, which withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of November, 2007.
For the Nuclear Regulatory Commission.
Carl F. Lyon,
Project Manager, Plant Licensing Branch IV, Division of Operating Reactor Licensing, Office of Nuclear Reactor Regulation.

[FR Doc. E7-23536 Filed 12-4-07; 8:45 am]

BILLING CODE 7590-01-P